COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action delete product(s) and service(s) to the Procurement List that were furnished by nonprofit agencies employing persons who are blind or have other severe disabilities.

DATES: Date added to and deleted from the Procurement List: April 14, 2024.

ADDRESSES: Committee for Purchase From People Who Are Blind or Severely Disabled, 355 E Street SW, Suite 325, Washington, DC 20024.

FOR FURTHER INFORMATION CONTACT: Michael R. Jurkowski, Telephone: (703) 785-6404, or email CMTEFedReg@AbilityOne.gov.

SUPPLEMENTARY INFORMATION:

Deletions

On 2/9/2024, the Committee for Purchase From People Who Are Blind or Severely Disabled published notice of proposed deletions from the Procurement List. This notice is published pursuant to 41 U.S.C. 8503 (a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s):

7510-01-664-8784—DAYMAX System, 2023 Calendar Pad, Type I

7510-01-664-8815—DAYMAX System, 2023, Calendar Pad, Type II

Authorized Source of Supply: Anthony Wayne Rehabilitation Ctr for Handicapped and Blind, Inc., Fort Wayne, IN

Contracting Activity: GSA/FAS ADMIN SVCS ACQUISITION BR(2, NEW YORK, NY

NSN(s)—Product Name(s): 7520-00-8LP-6520—Pen, Ballpoint, “Navy”, White

Designated Source of Supply: The Arkansas Lighthouse for the Blind, Little Rock, AR

Contracting Activity: U S FLEET FORCES COMMAND, NORFOLK, VA

Service(s)

Service Type: Tool and MRO Sourcing and Fulfillment Services

Mandatory for: USPFO Connecticut, Army National Guard, National Guard Bureau,360 Broad Street, Hartford, CT

Authorized Source of Supply: Industries for the Blind and Visually Impaired, Inc., West Allis, WI

Contracting Activity: DEPT OF THE ARMY, W7MZ USPFO ACTIVITY CT ARNG

Service Type: Furniture Design, Configuration and Installation

Mandatory for: U.S. Department of the Interior, OS Office, Herndon Atrium Building, 381 Elden Street, Herndon, VA

Authorized Source of Supply: Industries for the Blind and Visually Impaired, Inc., West Allis, WI

Contracting Activity: DEPARTMENTAL OFFICES, IBC ACQ SVCS DIRECTORATE (00004)

Service Type: Medical Transcription

Mandatory for: Department of the Navy, Naval Medical Center San Diego (NMCSD), 34800 Bob Wilson Drive, San Diego, CA

Authorized Source of Supply: Lighthouse for the Blind of Houston, Houston, TX

Contracting Activity: DEPT OF THE NAVY, NAVAL MEDICAL CENTER SAN DIEGO CA

Service Type: Mailroom Operation

Mandatory for: Federal Deposit Insurance Corporation: 1910 Pacific Avenue, Dallas, TX

Authorized Source of Supply: Dallas Lighthouse for the Blind, Inc., Dallas, TX

Contracting Activity: HEALTH AND HUMAN SERVICES, DEPARTMENT OF, DEPT OF HHS

Service Type: Mailroom Operation

Mandatory for: Department of Health and Human Services: Program Support Center Headquarters, Dallas, TX

Authorized Source of Supply: Dallas Lighthouse for the Blind, Inc., Dallas, TX

Contracting Activity: HEALTH AND HUMAN SERVICES, DEPARTMENT OF, DEPT OF HHS

Service Type: Grounds Maintenance/Vegetation Control

Mandatory for: US Navy, Housing and Station Areas, Naval Air Station Fallon, 4755 Pasture Road, Fallon, NV

Authorized Source of Supply: PRIDE Industries, Roseville, CA

Contracting Activity: DEPT OF THE NAVY, NAVFAC SOUTHWEST

Service Type: Janitorial/Custodial

Mandatory for: US Navy, Naval and Marine Corps Reserve Center,7117 West Plank Road, Peoria, IL

Authorized Source of Supply: Community Workshop and Training Center, Inc., Peoria, IL

Contracting Activity: DEPT OF THE NAVY, NAVAL FAC ENGINEERING CMD MID LANT

Michael R. Jurkowski,
Director, Business Operations.

[FR Doc. 2024-05567 Filed 3-14-24; 8:45 am]

BILLING CODE 6353-01-P